DEPARTMENT OF LABOR

Employment and Training Administration

[TA-W-52,538]

Custom Tool and Design, Inc., Erie, PA; Notice of Affirmative Determination Regarding Application for Reconsideration

By letter of October 10, 2003, a petitioner requested administrative reconsideration of the Department of Labor's Notice of Negative Determination Regarding Eligibility to Apply for Worker Adjustment Assistance, applicable to workers of the subject firm. The denial notice was signed on September 23 2003, and will soon be published in the Federal Register.

The Department reviewed the request for reconsideration and has determined that sales and production did decline in the relevant period, and therefore, a survey of subject firm customers is merited to establish whether imports contributed to layoffs in the petitioning worker group.

Conclusion

After careful review of the application, I conclude that the claim is of sufficient weight to justify reconsideration of the Department of Labor's prior decision. The application is, therefore, granted.

Signed at Washington, DC this 21st day of November, 2003.
Linda G. Poole,
Certifying Officer, Division of Trade Adjustment Assistance.

[FR Doc. 03-31303 Filed 12-18-03; 8:45 am]

BILLING CODE 4510-30-P